ENVIRONMENTAL PROTECTION AGENCY

40 CFR Part 300

[FRL-7258-6]

National Oil and Hazardous Substance Pollution Contingency Plan; National Priorities List

AGENCY: Environmental Protection Agency.

ACTION: Direct final notice of deletion of Operable Unit (OU) No. 2 of the Tex Tin Corporation Superfund site from the National Priorities List.

SUMMARY: The Environmental Protection Agency (EPA) Region 6 is publishing a direct final notice of deletion of OU No. 2 of the Tex Tin Superfund site, located in Texas City, Galveston County, Texas, from the National Priorities List (NPL).

The NPL, promulgated pursuant to section 105 of the Comprehensive Environmental Response, Compensation, and Liability Act (CERCLA) of 1980, as amended, is appendix B of 40 CFR part 300, which is the National Oil and Hazardous Substances Pollution Contingency Plan (NCP). This direct final notice of deletion is being published by EPA with the concurrence of the State of Texas, through the Texas Natural Resource Conservation Commission (TNRCC), because EPA has determined that all appropriate response actions under CERCLA have been completed and, therefore, further remedial action pursuant to CERCLA is not appropriate.

DATES: This direct final deletion will be effective October 15, 2002, unless EPA receives adverse comments by September 16, 2002. If adverse comments are received, EPA will publish a timely withdrawal of the direct final deletion in the Federal Register informing the public that the deletion will not take effect.

ADDRESSES: Comments may be mailed to: Donn Walters, Community Relations Coordinator U.S. EPA (6SF-P), 1445 Ross Avenue, Dallas, Texas, 75202-2733. Comments can also be sent by e-mail to: walters.donn@epa.gov.

Information Repositories: Comprehensive information about the Tex Tin Superfund site is available for viewing and copying at the information repositories located at: U.S. Environmental Protection Agency Region 6, 12th Floor Library, 1445 Ross Avenue, Dallas, Texas 75202-2733, (214) 665-6427, Monday through Friday 7:30 am to 4:30 pm; Moore Memorial Public Library, 1701 Ninth Avenue North, Texas City, Texas 77590, (409) 643-5979, Monday through Wednesday 9 am to 9 pm, Thursday and Friday 9 am to 6 pm, Saturday 10 am to 4 pm; Texas Natural Resource Conservation Commission, Building D, Record Management, Room 190, 12100 North Interstate Highway 35, Austin, Texas 78753, (512) 239-2920, Monday through Friday 8 a.m to 5 pm.

FOR FURTHER INFORMATION CONTACT: Carlos A. Sanchez, Remedial Project Manager (RPM) (6SF-A), EPA Region 6, 1445 Ross Avenue—Suite 1200, Dallas, Texas, 75202-2733, (214) 665-8507 or by e-mail, sanchez.carlos@epa.gov.

SUPPLEMENTARY INFORMATION:

Table of Contents

I. Introduction

II. NPL Deletion Criteria

III. Deletion Procedures

IV. Basis for Site Deletion

V. Deletion Action

I. Introduction

EPA Region 6 is publishing this direct final notice of deletion of OU No. 2 of the Tex Tin Superfund site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective October 15, 2002, unless EPA receives adverse comments by September 16, 2002, on this notice or the parallel notice of intent to delete published in the Proposed Rules section of today's Federal Register. If adverse comments are received within the 30-day public comment period on this notice or the notice of intent to delete EPA will publish a timely withdrawal of this direct final notice of deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses OU No. 2 of the Tex Tin Superfund site and demonstrates how it meets the deletion criteria. Section V discusses EPA's action to delete OU No. 2 from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of OU No. 2:

(1) The EPA consulted with the State of Texas through the Texas Natural Resource Conservation Commission (TNRCC) on the deletion of the Tex Tin OU No. 2 site from the NPL prior to developing this direct final notice of deletion.

(2) The State of Texas through the TNRCC concurred with deletion of OU No. 2 from the NPL.

(3) Concurrently with the publication of this direct final notice of deletion, a notice of the availability of the parallel notice of intent to delete published today in the “Proposed Rules” section of the Federal Register is being published in a major local newspaper of general circulation at or near the Tex Tin OU No. 2 site and is being distributed to appropriate federal, state, and local government officials and other interested parties; the newspaper notice announces the 30-day public comment period concerning the notice of intent to delete OU No. 2 from the NPL.

(4) The EPA placed copies of documents supporting the deletion in the Tex Tin site information repositories identified above.

(5) If adverse comments are received within the 30-day public comment period on this notice or the companion notice of intent to delete also published in today's Federal Register, EPA will publish a timely notice of withdrawal of this direct final notice of deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions. Additionally, deletion of the Tex Tin OU No. 2 site from the NPL will not alter BP Amoco's requirements under the Texas Voluntary Cleanup Program (Texas VCP).

IV. Basis for Site Deletion

The following information provides EPA's rationale for deleting the Tex Tin OU No. 2 site from the NPL:

Site Location

Operable Unit No. 2 of the Tex Tin Corporation Superfund site is located in Texas City, Galveston County, Texas, CERCLIS ID # TXD062113329. The former Tex Tin Corporation smelter facility, which at one time consisted of OU No. 1 and OU No. 2, is located in the southeast quadrant of the intersection of State Highway (SH) 146 and Farm-to-Market (FM) Road 519. The area north and east of the former smelter facility is dominated by large petrochemical facilities. There is a densely populated residential neighborhood approximately 2,000 feet west-northwest of the former facility in the city of La Marque, Texas. More than 10,000 people reside within a 1 mile radius of the former smelter facility. A municipal golf course, an industrial waste disposal facility, and marsh areas are located less than 0.5 mile to the south and southwest of the former facility.

Site History

The Tex Tin smelter was constructed by a corporation under contract to the United States government as an emergency tin supply plant for World War II, and operated under a government contract from 1941 to 1956 as the Tin Processing Corporation. The smelting operations were conducted in the areas currently referred to as OU No. 1 and OU No. 2. The facility was sold to private industry in 1957 and was operated by a succession of companies until it ceased operations in 1991.

From 1941 through 1989, the facility primarily produced tin. A secondary copper smelting process replaced the tin smelting operations in 1989 and continued through 1991. In 1969, Amoco Chemical Company purchased approximately 27 acres of land (OU No. 2) from Wah Chang Corporation, owner of the smelter at that time.

EPA first proposed the Tex Tin site for inclusion on the NPL in 1988. The Court of Appeals for the D.C. Circuit ordered the site removed from the NPL in 1993. On June 17, 1996, EPA again proposed to add the Tex Tin Corporation site to the NPL of Superfund sites. 61 FR 30575 (June 17, 1996). The Tex Tin NPL listing became final on September 18, 1998. 63 FR 49855.

The Tex Tin Superfund site consists of four operable units. Primary and secondary tin and copper smelting operations were conducted in the area currently referred to as OU No. 1, which encompasses approximately 140 acres and includes ponds outside the fenced area. OU No. 3 is the La Marque residential area located approximately 2,000 feet west-northwest from the former smelter facility. OU No. 4 includes the Swan Lake ecosystem located between the hurricane levee and the shell barrier islands separating Swan Lake from Galveston Bay and portions of Swan Lake, its associated salt marsh habitats, and the Wah Chang ditch east of Loop 197. OU No. 2, the focus of this proposed direct deletion, encompasses approximately 27 acres, where unlined pits created for storage of waste acid solution from smelter operations were historically located. In April of 1996, Amoco applied to the Texas VCP to perform response activities on its property, OU No. 2. After consultation between EPA and TNRCC, Amoco was accepted into the VCP. EPA provided technical assistance to TNRCC in overseeing the Amoco response action.

Remedial Investigation and Feasibility Study (RI/FS)

Tex Tin OU No. 2 includes an area of approximately 27 acres that was part of the Tex Tin smelter facility until 1969, when the property was purchased by Amoco (now BP Amoco). OU No. 2 is referred to in the RI and other early reports as Area H. Area H included six (6) ponds (Ponds 9 through 14) that at one time were used to dispose of acidic ferrous-chloride waste solution from the tin smelting process. Beginning in 1969, when Amoco bought the property, the ponds were no longer used for disposal of smelter waste. In 1988 they were drained and backfilled by Amoco. OU No. 2 is currently part of Amoco's Plant C property, a total of approximately 71 undeveloped acres situated across FM 519 from the Amoco Refinery and the Amoco Chemical Plant in Texas City.

The RI conducted in 1992 for the Tex Tin site included OU No. 2. The RI found metal concentrations in the surface soils, near-surface soils, and fill material in the OU No. 2 area that exceeded health based levels. Arsenic and lead are the metals that were found at the highest concentrations and which contributed the highest health risk at OU No. 2. Lead as high as 3,505 mg/kg was detected in Pond 13 and arsenic as high as 2,537 mg/kg was detected in Pond 14.

Additional investigations for OU No. 2 were conducted in 1996 by KMA Environmental (now Meridian Alliance Group) for Amoco. Results of the investigations conducted by KMA are presented in the Surface Soils Response Action Work Plan and the Groundwater Response Action Work Plan which are included in the Response Action Work Plan dated October 1996. Test results found lead concentrations at 3,120 mg/kg, arsenic at 1,550 mg/kg, and chromium at 25.8 mg/kg.

Findings from KMA investigations and the RI indicated that contaminants were present at OU No. 2 that may pose a risk to human health and the environment. Because the extensive RI conducted in 1992 for the former smelter facility included both OU No. 1 and OU No. 2, the selection of contaminants of concern (COCs) and the preliminary remediation goals (PRGs) identified for OU No. 1 are applicable for OU No. 2. Likewise, soil and ground water remedies selected in the ROD for OU No. 1, for an industrial setting, are applicable to OU No. 2.

Record of Decision Findings

The United States Environmental Protection Agency (EPA) Region 6 signed a No Further Action Record of Decision (ROD) on September 27, 2001, for Operable Unit (OU) No. 2 (Amoco Property) of the Tex Tin Corporation Superfund site which is located in Texas City, Texas. The EPA based its decision on the results of the remedial investigation and human health risk assessment conducted for the Tex Tin site and the successful completion of a Response Action by Amoco Chemical Company (Amoco) (now known as BP Amoco Chemical Company) under the Texas Voluntary Cleanup Program (VCP) from November 1997 through June 1998. The EPA determined that the Amoco Response Action had eliminated the need to conduct further remedial action at OU No. 2 by addressing the human health risk associated with the high concentrations of arsenic and lead. The State of Texas concurred with the Record of Decision of No Further Action necessary under CERCLA.

Characterization of Risk

A human health risk assessment for OU No. 2 was conducted by KMA in 1996. The risk assessment results indicated that the risk associated with arsenic, lead, and chromium contamination in the surface soils exceeded allowable risks for industrial workers. The model identified the baseline (prior to response action) risk to site workers associated with contaminants found in OU No. 2 surface soils. The model indicated that the cancer risk was exceeded for industrial workers at the site. The calculated cancer risk for industrial workers was 2.04E-4 which exceeds EPA's acceptable risk range of one in ten thousand to one in one million (expressed as 1 × 10⁻⁴ to 1 × 10⁻⁶) lifetime excess cancer incidents which is the remedial goal for Superfund sites.

The Remedial Action Objectives (RAOs) formulated for OU No. 1 contaminants that are also applicable to OU No. 2 consist of:

• Preventing direct contact, ingestion, and inhalation of contaminants that exceed PRGs.

• Preventing further degradation of the ground water outside the site boundaries in the shallow and medium transmissive zones.

• Preventing migration of contaminated ground water outside the site boundaries to the deep transmissive zone by addressing the site source materials and preventing further degradation of the shallow and medium transmissive zones.

Response Action

The Tex Tin OU No. 2 response action, conducted under the authority of the Texas Voluntary Cleanup Program, met EPA's CERCLA standards and the RAOs for OU No. 1 which are also applicable to OU No. 2. The implemented remedy for OU No. 2 included the following elements:

• Placement of a minimum 2-foot soil/vegetative cover over the entire OU No. 2 area (to prevent exposure to surface soil contaminants above health-based action levels found on portions of the property);

• Construction of a bentonite/soil (slurry) cutoff wall along the Amoco (OU No. 2) and Tex Tin (OU No. 1) property boundary to prevent further movement of the contaminated shallow ground water from OU No. 1 to OU No. 2;

• Initiation of a long-term ground water monitoring program and placing deed restrictions on the property to prevent use of the ground water for purposes other than monitoring and remediation; and

• Filing deed restrictions to restrict site use for industrial purposes only and to notify potential users of the remaining site contaminants.

The response action taken at OU No. 2 by Amoco has eliminated the exposure pathway between human or environmental receptors and surface or subsurface contaminants by creating a permanent clean cover over the entire OU No. 2 property. Unacceptable levels of risk to industrial workers caused by exposure to hazardous substances at OU No. 2 have been abated by the VCP response action.

A comparison of the selected remedy for OU No. 1, which met the nine evaluation criteria used in selecting remedies for Superfund sites, with the remedy implemented for OU No. 2 under the Texas VCP indicates that the remedy for OU No. 2 is consistent with the remedy selected for OU No. 1.

Cleanup Standards

The cleanup standards or preliminary remedial goals (PRGs) identified for the former smelter facility (OU No. 1) are applicable for OU No. 2. The human health risk-based industrial PRG for arsenic was calculated at 194 mg/kg. The PRG for arsenic meets EPA's acceptable risk range of 1E-4 to 1E-6 and meets TNRCC's arsenic cleanup level of 200 mg/kg for an industrial site. The lead PRG of 2,000 mg/kg was based on Bower's model for adult lead exposure at an industrial setting. For the OU No. 2 contaminants of concern, only arsenic at 2,537 mg/kg and lead at 3,505 mg/kg exceeded the PRGs.

To determine the leaching potential of site contaminants to the site ground water, the Synthetic Precipitation Leaching Procedure (SPLP) test was conducted by Amoco for OU No. 2. The SPLP tests indicated that lead levels in surface soil as high as 3,120 mg/kg and arsenic levels in surface soils as high as 1,550 mg/kg would pass the SPLP test. The selected PRGs levels for arsenic and lead do not exceed the SPLP levels tested and would therefore be protective of the site ground water.

Operation and Maintenance

The long-term ground water monitoring program consists of:

• Sampling twenty-four (24) shallow and seven medium transmissive zone wells on a quarterly basis for the first two years, semi-annually for the next three years, and yearly thereafter;

• Establishing a compliance monitoring program at the limit of the contaminant plume boundary to ensure that no further migration of the contaminated shallow ground water is occurring. Samples will be collected from nine (9) shallow ground water wells quarterly for a minimum of two years. If no migration is indicated during the first two years, sampling will be conducted semi-annually for the next three years, and annually thereafter. If migration of the contaminated shallow ground water is indicated at the compliance monitoring locations, a proposed response action will be submitted to TNRCC and EPA in a Groundwater Monitoring Response Action Report.

Five-Year Review

Because the response action resulted in hazardous substances, pollutants, or contaminants remaining on-site above health-based levels, a review will be conducted to ensure that the remedy continues to provide adequate protection of human health and the environment within five years after commencement of the response action for OU No. 2 of the Tex Tin site. The response action began in October 1997; therefore, the first five year review for OU No. 2 will be scheduled for October 2002. Moreover, Amoco will continue the ground water monitoring program to verify that contaminants in the shallow transmissive zone are not migrating to the deep transmissive ground water zone that can potentially be used as a drinking water source. In addition, the Texas VCP will review site conditions on a semiannual basis to ensure compliance with the Conditional Certificate of Completion.

Community Involvement

Public participation activities have been satisfied as required in CERCLA section 113(k), 42 U.S.C. 9613(k), and CERCLA section 117, 42 U.S.C. 9617. Documents in the Administrative Record for the Tex Tin Superfund site which EPA relied on for recommendation of the deletion from the NPL are available to the public in the information repositories which can be found at the Moore Memorial Library located in Texas City, Texas, the EPA Region 6 library in Dallas, Texas, and the TNRCC library in Austin, Texas.

V. Deletion Action

The EPA, with concurrence of the State of Texas through the TNRCC, has determined that all appropriate responses under CERCLA have been completed, and that no further response actions, under CERCLA, other than O&M and five-year reviews, are necessary. Therefore, EPA is deleting OU No. 2 of the Tex Tin Superfund site from the NPL.

Because EPA considers this action to be noncontroversial and routine, EPA is taking it without prior publication of a notice of intent to delete. This action will be effective October 15, 2002, unless EPA receives adverse comments by September 16, 2002, on a parallel notice of intent to delete published in the Proposed Rule section of today's Federal Register. If adverse comments are received within the 30-day public comment period on the proposal, EPA will publish a timely withdrawal of this direct final notice of deletion before the effective date of the deletion and it will not take effect and, EPA will prepare a response to comments and continue with the deletion process on the basis of the notice of intent to delete and the comments already received. There will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: July 29, 2002.
Gregg A. Cooke,
Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of appendix B to part 300 is amended under the State of Texas (“TX”) by revising the entry for the “Tex-Tin Corp.” Superfund site and the city “Texas City” Texas to read as follows:

Appendix B to Part 300—National Priorities List

Table 1.—General Superfund Section
State | Site name | City/County | Notes (a)
* * * * * * *
TX | Tex Tin Superfund | Texas City, Galveston | P
P = Sites with partial deletion(s).

(a) * * *

[FR Doc. 02-20446 Filed 8-14-02; 8:45 am]

BILLING CODE 6560-50-P